DEPARTMENT OF THE INTERIOR

Bureau of Land Management

[AZ-912-1820-AL-241A]

Arizona State Office Public Room Temporary Closure

AGENCY: Bureau of Land Management, Interior.

ACTION: Notice of temporary office closure to the public.

SUMMARY: This notice announces a temporary closure of the Bureau of Land Management Arizona State Office Public Room for October 5-12, 2005. The five-day closure is for the purpose of relocating the land and mineral records, office furniture and electronic equipment to a new location in the Phelps Dodge Tower at 1 North Central Avenue in downtown Phoenix, Arizona. The Public Room will be reopened to the public for regular business hours—9 a.m. to 4 p.m., starting on Thursday, October 13, 2005. The phone number to the Public Room, (602) 417-9200, will remain the same in the new location.

FOR FURTHER INFORMATION CONTACT: Deborah Stevens, Bureau of Land Management, Arizona State Office, 222 North Central Avenue, Phoenix, Arizona 85004-2203, (602) 417-9215.

Joan B. Losacco,
Acting Arizona State Director.

[FR Doc. 05-18044 Filed 9-12-05; 8:45 am]

BILLING CODE 4310-32-P